DEPARTMENT OF HEALTH AND HUMAN SERVICES

Centers for Medicare & Medicaid Services

Privacy Act of 1974; Matching Program

AGENCY: Centers for Medicare & Medicaid Services (CMS), Department of Health and Human Services (HHS)

ACTION: Notice of a New Matching Program.

SUMMARY: In accordance with subsection (e)(12) of the Privacy Act of 1974, as amended, the Department of Health and Human Services (HHS), Centers for Medicare & Medicaid Services (CMS) is providing notice of a new matching program between CMS and the Peace Corps, “Verification of Eligibility for Minimum Essential Coverage Under the Patient Protection and Affordable Care Act Through a Peace Corps Health Benefit Plan.”

DATES: The deadline for comments on this notice is December 26, 2018.The re-established matching program will commence not sooner than 30 days after publication of this notice, provided no comments are received that warrant a change to this notice. The matching program will be conducted for an initial term of 18 months (from approximately January 2019 to June 2020) and within 3 months of expiration may be renewed for one additional year if the parties make no change to the matching program and certify that the program has been conducted in compliance with the matching agreement.

ADDRESSES: Written comments can be sent to: CMS Privacy Act Officer, Division of Security, Privacy Policy & Governance, Information Security & Privacy Group, Office of Information Technology, CMS, 7500 Security Blvd., Baltimore, MD 21244-1870, Mailstop: N3-15-25, or by email to: walter.stone@cms.hhs.gov. Comments received will be available for review at this location, by appointment, during regular business hours, Monday through Friday from 9:00 a.m. to 3:00 p.m.

FOR FURTHER INFORMATION CONTACT: If you have questions about the matching program, you may contact Jack Lavelle, Senior Advisor, Marketplace Eligibility and Enrollment Group, Center for Consumer Information and Insurance Oversight, CMS, 7501 Wisconsin Ave., Bethesda, MD 20814, (410) 786-0639, or by email at Jack.Lavelle1@cms.hhs.gov.

SUPPLEMENTARY INFORMATION: The Privacy Act of 1974, as amended (5 U.S.C. 552a) provides certain protections for individuals applying for and receiving federal benefits. The law governs the use of computer matching by federal agencies when records in a system of records (meaning, federal agency records about individuals retrieved by name or other personal identifier) are matched with records of other federal or non-federal agencies. The Privacy Act requires agencies involved in a matching program to:

1. Enter into a written agreement, which must be prepared in accordance with the Privacy Act, approved by the Data Integrity Board of each source and recipient federal agency, provided to Congress and the Office of Management and Budget (OMB), and made available to the public, as required by 5 U.S.C. 552a(o), (u)(3)(A), and (u)(4).

2. Notify the individuals whose information will be used in the matching program that the information they provide is subject to verification through matching, as required by 5 U.S.C. 552a(o)(1)(D).

3. Verify match findings before suspending, terminating, reducing, or making a final denial of an individual's benefits or payments or taking other adverse action against the individual, as required by 5 U.S.C. 552a(p).

4. Report the matching program to Congress and the OMB, in advance and annually, as required by 5 U.S.C. 552a(o) (2)(A)(i), (r), and (u)(3)(D).

5. Publish advance notice of the matching program in the Federal Register as required by 5 U.S.C. 552a(e)(12). This matching program meets these requirements.

This matching program meets these requirements.

Barbara Demopulos,
CMS Privacy Advisor, Information Security and Privacy Group, Division of Security, Privacy Policy and Governance, Office of Information Technology, Centers for Medicare & Medicaid Services.

Participating Agencies

Department of Health and Human Services (HHS), Centers for Medicare & Medicaid Services (CMS), and the Peace Corps.

Authority for Conducting the Matching Program

The statutory authority for the matching program is 42 U.S.C. 18001, et seq.

Purpose(s)

The purpose of the matching program is to assist CMS in determining individuals' eligibility for financial assistance in paying for private health insurance coverage. In this matching program, the Peace Corps provides CMS with data identifying all Peace Corps volunteers and the dates when each volunteer was eligible for coverage under a Peace Corps health benefit plan, which CMS and state administering entities (AEs) use to verify whether an individual who is applying for or is enrolled in private health insurance coverage under a qualified health plan through a federally-facilitated or state-based health insurance exchange is eligible for coverage under a Peace Corps health benefit plan. CMS makes the data provided by the Peace Corps available to AEs through a data services hub to use in determining the applicant's or enrollee's eligibility for financial assistance (including an advance tax credit and cost sharing reduction, which are types of insurance affordability programs) in paying for private health insurance coverage. Peace Corps health benefit plans provide minimum essential coverage, and eligibility for such plans usually precludes eligibility for financial assistance in paying for private coverage. The data provided by the Peace Corps under this matching program will be used by CMS and AEs to authenticate identity, determine eligibility for financial assistance, and determine the amount of the financial assistance.

Categories of Individuals

The categories of individuals whose information is involved in the matching program are:

• Active and recently separated Peace Corps volunteers, identified in data CMS receives from the Peace Corps; and

• Consumers who apply for or are enrolled in private insurance coverage under a qualified health plan through a federally-facilitated health insurance exchange (and other relevant individuals, such as applicants' and enrollees' household members), whose records are matched against the data CMS receives from the Peace Corps.

Categories of Records

The categories of records which will be provided by the Peace Corps to CMS in this matching program are identity records and minimum essential coverage period records, consisting of these data elements:

1. Record type.

2. data record number.

3. social security number of Peace Corps volunteer.

4. last name of Peace Corps volunteer.

5. middle name of Peace Corps volunteer.

6. first name of Peace Corps volunteer.

7. gender of Peace Corps volunteer.

8. date of birth of Peace Corps volunteer.

9. Peace Corps volunteer coverage begin date.

10. Peace Corps volunteer actual end date.

11. Peace Corps volunteer projected coverage end date. CMS will not send any data about individual applicants/enrollees to the Peace Corps in order to receive this data about Peace Corps volunteers. The Peace Corps will send CMS a bulk file each day from Tuesday through Saturday, which will contain this data for all active Peace Corps volunteers and all Peace Corps volunteers who left service within the prior three months.

System(s) of Records

The records used in this matching program about Peace Corps volunteers will be disclosed to CMS from the Peace Corps system of records identified below, and will be matched against applicant/enrollee records in the CMS system of records identified below:

A. System of Records Maintained by CMS

• MCMS Health Insurance Exchanges System (HIX), CMS System No. 09-70-0560, last published in full at 78 FR 63211 (Oct. 23, 2013), as amended at 83 FR 6591 (Feb. 14, 2018).

B. System of Records Maintained by the Peace Corps

• Peace Corps Manual Section 897, Attachment B, PC-17 Volunteer Applicant and Service Records System, 75 FR 53000 (Oct. 14, 2010). Routine use (i), which authorizes disclosure of records “to verify active or former Volunteer service,” authorizes the Peace Corps' disclosures to CMS.

[FR Doc. 2018-25639 Filed 11-23-18; 8:45 am]

BILLING CODE 4120-03-P